DEPARTMENT OF HOMELAND SECURITY

Federal Emergency Management Agency

44 CFR Parts 59, 61, and 62

[Docket ID FEMA-2018-0026]

RIN 1660-AA95

National Flood Insurance Program (NFIP): Conforming Changes To Reflect the Biggert-Waters Flood Insurance Reform Act of 2012 (BW-12) and the Homeowners Flood Insurance Affordability Act of 2014 (HFIAA), and Additional Clarifications for Plain Language; Correction

AGENCY: Federal Emergency Management Agency, DHS.

ACTION: Proposed rule; correction.

SUMMARY: On July 16, 2018, FEMA published a proposed rule which would revise the National Flood Insurance Program's regulations to codify certain provisions of the Biggert-Waters Flood Insurance Reform Act of 2012 and the Homeowner Flood Insurance Affordability Act of 2014 that FEMA has already implemented and to clarify certain existing NFIP rules relating to NFIP operations and the Standard Flood Insurance Policy. In the preamble to the proposed rule, an incorrect web address appeared. This correction fixes that address.

DATES: This correction is effective August 7, 2018. The closing of the comment period for the proposed rule published July 16, 2018, at 83 FR 39256, remains September 14, 2018.

ADDRESSES: For information on submitting comments, see the July 16, 2018, proposed rule at 83 FR 39256.

SUPPLEMENTARY INFORMATION: In proposed rule document 2018-13292 appearing on pages 32956 through 33015 in the issue of Monday, July 16, 2018, make the following correction:

1. On page 32957, in the third column, in the first full paragraph, correct the web address “www.nfipservice.com” to read “https://www.nfipdirect.fema.gov”.

Brock Long,
Administrator, Federal Emergency Management Agency.

[FR Doc. 2018-16718 Filed 8-6-18; 8:45 am]

BILLING CODE 9111-52-P